DEPARTMENT OF ENERGY

Federal Energy Regulatory Commission

Combined Notice of Filings #1

March 28, 2008.

Take notice that the Commission received the following electric rate filings:

Docket Numbers: ER05-18-004; ER05-309-004.

Applicants: New Dominion Energy Cooperative; Old Dominion Electric Cooperative, Inc.

Description: New Dominion Energy Cooperative et al. submits the appended attachments to serve as the Compliance Filing required by the Order.

Filed Date: 03/26/2008.

Accession Number: 20080327-0129.

Comment Date: 5 p.m. Eastern Time on Wednesday, April 16, 2008.

Docket Numbers: ER07-1372-004.

Applicants: Midwest Independent Transmission System Operator, Inc.

Description: Midwest Independent Transmission System Operator Inc submits clarifications and revisions to the Open Access Transmission, Energy and Operating Reserve Markets Tariff.

Filed Date: 03/26/2008.

Accession Number: 20080327-0153.

Comment Date: 5 p.m. Eastern Time on Wednesday, April 16, 2008.

Docket Numbers: ER08-415-001.

Applicants: Potomac Electric Power Company.

Description: Potomac Electric Power Company submits their compliance filing with the required modifications to the Construction Agreement with Mirant Mid-Atlantic LLC.

Filed Date: 03/25/2008.

Accession Number: 20080327-0050.

Comment Date: 5 p.m. Eastern Time on Tuesday, April 15, 2008.

Docket Numbers: ER08-416-001.

Applicants: Midwest Independent Transmission System Operator, Inc.

Description: Midwest Independent Transmission System Operator Inc submits proposed revisions to both its current Open Access Transmission and Energy Markets Tariff and its Open Access Transmission Energy and Operating Reserve Markets Tariff.

Filed Date: 03/25/2008.

Accession Number: 20080327-0040.

Comment Date: 5 p.m. Eastern Time on Tuesday, April 15, 2008.

Docket Numbers: ER08-685-000.

Applicants: TransCanada Maine Wind Development Inc.

Description: TransCanada Maine Wind Development, Inc submits an application for authorization to make wholesale sales of energy & capacity at negotiated market-based rates under ER08-685.

Filed Date: 03/17/2008.

Accession Number: 20080320-0032.

Comment Date: 5 p.m. Eastern Time on Monday, April 07, 2008.

Docket Numbers: ER08-703-000.

Applicants: Nevada Power Company.

Description: Nevada Power Co submits an unexecuted Large Generator Interconnection Agreement with Toquop Energy, LLC.

Filed Date: 03/25/2008.

Accession Number: 20080327-0028.

Comment Date: 5 p.m. Eastern Time on Tuesday, April 15, 2008.

Docket Numbers: ER08-704-000.

Applicants: ISO New England Inc.

Description: ISO New England Inc et al. submit amendments to the ISO Financial Assurance Policy for Market Participants and ISO Financial Assurance for FTR Only Customers et al.

Filed Date: 03/25/2008.

Accession Number: 20080327-0049.

Comment Date: 5 p.m. Eastern Time on Tuesday, April 15, 2008.

Docket Numbers: ER08-705-000.

Applicants: ISO New England Inc.

Description: ISO New England Inc et al. submits Market Rule and Billing Policy Revisions re UCAP Peak Contribution Values and Other Changes.

Filed Date: 03/25/2008.

Accession Number: 20080327-0048.

Comment Date: 5 p.m. Eastern Time on Tuesday, April 15, 2008.

Docket Numbers: ER08-706-000; ER08-707-000; ER08-708-000; ER08-709-000; ER08-710-000; ER08-711-000.

Applicants: Avista Corporation; Idaho Power Company; PacifiCorp; Portland General Electric Company; Puget Sound Energy, Inc.; Northwestern Corporation (Montana).

Description: Pacific Northwest Investor-Owned Utilities submits revised Sections 30.1 and 30.03 to their Open Access Transmission Tariffs.

Filed Date: 03/25/2008.

Accession Number: 20080327-0047.

Comment Date: 5 p.m. Eastern Time on Tuesday, April 15, 2008.

Docket Numbers: ER08-712-000.

Applicants: American Electric Power Service Corporation.

Description: American Electric Power Service Corp on behalf of Ohio Power Co et al. submits the Twelfth Revised Interconnection and Local Delivery Service Agreement with Buckeye Power, Inc.

Filed Date: 03/26/2008.

Accession Number: 20080327-0046.

Comment Date: 5 p.m. Eastern Time on Wednesday, April 16, 2008.

Docket Numbers: ER08-713-000.

Applicants: The American Electric Power Service Corporation.

Description: American Electric Power Service Corp on behalf of American Electric Power Co, Inc submits a Notice of Cancellation of Service Agreements.

Filed Date: 03/26/2008.

Accession Number: 20080327-0045.

Comment Date: 5 p.m. Eastern Time on Wednesday, April 16, 2008.

Docket Numbers: ER08-714-000.

Applicants: The American Electric Power Service Corporation.

Description: American Electric Power Co, Inc submits a Notice of Cancellation of Service Agreements under Public Service Co of Oklahoma FERC Electric Tariff, First Revised Volume 5.

Filed Date: 03/26/2008.

Accession Number: 20080327-0044.

Comment Date: 5 p.m. Eastern Time on Wednesday, April 16, 2008.

Docket Numbers: ER08-715-000.

Applicants: The American Electric Power Service Corporation.

Description: American Electric Power Service Corporation submits Notice of Cancellation of Service Agreements under AEP Texas North Company known as West Texas Utilities Company FERC Electric Tariff, First Revised Volume 8.

Filed Date: 03/26/2008.

Accession Number: 20080327-0043.

Comment Date: 5 p.m. Eastern Time on Wednesday, April 16, 2008.

Docket Numbers: ER08-716-000.

Applicants: The American Electric Power Service Corporation.

Description: American Electric Power Service Corporation submits Notice of Cancellation of Service Agreements under AEP Texas Central Company known as Central Power and Light Company FERC Electric Tariff, Second Revised Volume 8.

Filed Date: 03/26/2008.

Accession Number: 20080327-0042.

Comment Date: 5 p.m. Eastern Time on Wednesday, April 16, 2008.

Docket Numbers: ER08-717-000.

Applicants: Tucson Electric Power Company.

Description: Tucson Electric Power Company submits an executed Control Area Services Agreement between UNS Electric, Inc and Tucson Electric Power Company dated March 20, 2008.

Filed Date: 03/26/2008.

Accession Number: 20080327-0041.

Comment Date: 5 p.m. Eastern Time on Wednesday, April 16, 2008.

Docket Numbers: ER08-718-000.

Applicants: Wisconsin Power and Light Company.

Description: Wisconsin Power and Light Company submits a Second Revised Power Supply Agreement with Wisconsin Public Power Inc.

Filed Date: 03/26/2008.

Accession Number: 20080327-0052.

Comment Date: 5 p.m. Eastern Time on Wednesday, April 16, 2008.

Docket Numbers: ER08-719-000.

Applicants: Xcel Energy Services Inc.

Description: Northern States Power Company submits a Qualifying Facility Generator Distribution Interconnection and Operating Agreement and a Distribution Wheeling Service Agreement with Twin Cities Hydro, LLC.

Filed Date: 03/26/2008.

Accession Number: 20080327-0056.

Comment Date: 5 p.m. Eastern Time on Wednesday, April 16, 2008.

Docket Numbers: ER08-720-000.

Applicants: Consolidated Edison Co. of New York, Inc.

Description: Consolidated Edison Company of New York, Inc submits the Power Purchase Agreement with Cogen Technologies, Inc.

Filed Date: 03/26/2008.

Accession Number: 20080327-0082.

Comment Date: 5 p.m. Eastern Time on Wednesday, April 16, 2008.

Docket Numbers: ER08-721-000.

Applicants: Maine Public Service Company.

Description: Maine Public Service Company submits an executed Interconnection System Impact Study Agreement etc.

Filed Date: 03/26/2008.

Accession Number: 20080327-0127.

Comment Date: 5 p.m. Eastern Time on Wednesday, April 16, 2008.

Docket Numbers: ER08-722-000.

Applicants: Allegheny Energy Supply Company, LLC.

Description: Allegheny Energy Supply Co, LLC requests authorization to make wholesale power sales to its affiliate Potomac Edison Co, to become effective 6/1/08.

Filed Date: 03/26/2008.

Accession Number: 20080327-0083.

Comment Date: 5 p.m. Eastern Time on Wednesday, April 16, 2008.

Docket Numbers: ER08-723-000.

Applicants: Wisconsin Power and Light Company.

Description: Wisconsin Power and Light Company submits Second Revised Master Power Supply Agreement between Lakes Utilities and WPL, GLU and WPL entered into the Second Revised PSA on 2/21/08.

Filed Date: 03/27/2008.

Accession Number: 20080328-0158.

Comment Date: 5 p.m. Eastern Time on Thursday, April 17, 2008.

Docket Numbers: ER08-724-000.

Applicants: Pacific Gas and Electric Company.

Description: Pacific Gas and Electric Company submits a Notice of Termination for certain Tariff Sheets between PG&E, the Western Area Power Administration—Sierra Nevada Region and the U.S. Department of Energy Berkeley Site Office formerly etc.

Filed Date: 03/27/2008.

Accession Number: 20080328-0159.

Comment Date: 5 p.m. Eastern Time on Thursday, April 17, 2008.

Docket Numbers: ER08-725-000.

Applicants: Carolina Power & Light Company.

Description: Progress Energy, Inc submits filing of its subsidary Carolina Power & Light Company re a Network Integration Service Agreement and Network Operating Agreement etc under ER08-725.

Filed Date: 03/27/2008.

Accession Number: 20080328-0160

Comment Date: 5 p.m. Eastern Time on Thursday, April 17, 2008.

Docket Numbers: ER08-726-000.

Applicants: American Electric Power Service Corporation.

Description: The American Electric Power Service Corporation submits a Sixth revision to the Interconnection and Local Delivery Agreement between AEP and Wabash Valley Power Authority.

Filed Date: 03/27/2008.

Accession Number: 20080328-0161.

Comment Date: 5 p.m. Eastern Time on Thursday, April 17, 2008.

Docket Numbers: ER08-727-000.

Applicants: Indianapolis Power & Light Company.

Description: Indianapolis Power & Light Co submits the executed Royalton Interconnection Facilities Agreement with Wabash Valley Power Association, Inc.

Filed Date: 03/27/2008.

Accession Number: 20080328-0115.

Comment Date: 5 p.m. Eastern Time on Thursday, April 17, 2008.

Docket Numbers: ER08-728-000.

Applicants: Florida Power Corporation.

Description: Florida Power Corp submits a cost-based power sales agreement with Seminole Electric Coop, Inc.

Filed Date: 03/27/2008.

Accession Number: 20080328-0114.

Comment Date: 5 p.m. Eastern Time on Thursday, April 17, 2008.

Take notice that the Commission received the following electric securities filings:

Docket Numbers: ES08-36-000.

Applicants: California Independent System Operator Corporation.

Description: California Independent System Operator Corporation submits Application Under Section 204 of the Federal Power Act for an Order Authorizing the Issuance of Securities under ES08-36.

Filed Date: 03/17/2008.

Accession Number: 20080320-0055.

Comment Date: 5 p.m. Eastern Time on Monday, April 07, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-7018 Filed 4-3-08; 8:45 am]

BILLING CODE 6717-01-P